EXPORT-IMPORT BANK OF THE U.S.

[Public Notice: 2012-0100]

Agency Information Collection Activities: Comment Request

AGENCY: Export-Import Bank of the U.S.

ACTION: 30-Day Notice of Information Collection Submission for OMB Review.

Form Title: EIB 84-01 Joint Application for Working Capital Guarantee.

SUMMARY: The Export-Import Bank of the United States (Ex-Im Bank) will be submitting the information collection titled EIB-SBA Form 84-1 Joint Application for Export Working Capital Guarantee to the Office of Management and Budget (OMB) for review and approval in accordance with the Paperwork Reduction Act of 1995.

EIB-SBA Form 84-1 is the application for working capital loan guarantees provided by Ex-Im Bank and the Small Business Administration (SBA). This joint application provides Ex-Im Bank and SBA staff with the information necessary to determine if the application and transaction are eligible for Ex-Im Bank and SBA assistance. Specifically, this collection of information is necessary under Sec. 635(a)(1) of the Export Import Bank Act to determine eligibility of the applicant for Ex-Im Bank assistance or participation, and under Section 7(a)(14) of the Small Business Act (15 U.S.C. 636(a)(14)) to determine eligibility of the applicant for SBA financial assistance.

The application can be viewed at www.exim.gov/pub/pending/EIB84-01.PDF.

DATES: Comments should be received on or before June 29, 2012 to be assured of consideration.

ADDRESSES: Comments may be submitted through www.regulations.gov or written comments and/or suggestions regarding this information collection, especially the estimated public burden and associated response time, should be directed to Office of Information and Regulatory Affairs, 725 17th Street NW., Washington, DC 20038 Attn: OMB 3048-0003.

FOR FURTHER INFORMATION CONTACT: Smaro Karakatsanis, Export Import Bank of the United States, 811 Vermont Ave. NW., Washington, DC 20571.

SUPPLEMENTARY INFORMATION: Titles and Form Number: EIB-SBA Form 84-1 Joint Application for Export Working Capital Guarantee.

OMB Number: 3048-0003.

Type of Review: Regular.

Need and Use: This information will be used to determine if the applicant and transaction are eligible for Ex-Im Bank and SBA assistance.

Affected Public: This form affects entities involved in the export of U.S. goods and services.

| Ex-Im Bank | SBA
Estimated respondents per year | 606 | 177
Frequency of Responses | once per application for both programs
Estimated hours per response | * 2.5 | * 2.5
Estimated annual burden hours | 1,515 | 442.5
Total annual burden hours | 1957.5
Estimated annual cost | $45,829 | $15,488
Total annual cost | $61,317
* Hours.

The annual cost to respondents would therefore be $61,316.25.

| Ex-Im Bank | SBA
Reviewing time in hours | 2 | 2
Responses per year | 606 | 177
Review time per year | 1,212 | 354
Average wages per hour | $30.25 | $35.00
Average cost per year | $36,663 | $12,390
Benefits and Overhead | 28% | 100%
Total Government Cost | $46,928 | $24,780

The annual cost to the Government would be $71,708.

Sharon A. Whitt,
Agency Clearance Officer.

[FR Doc. 2012-13047 Filed 5-29-12; 8:45 am]

BILLING CODE 6690-01-P